DEPARTMENT OF HOMELAND SECURITY

Coast Guard

[USCG-2008-0222]

Information Collection Request to Office of Management and Budget; OMB Control Numbers: 1625-0067 and 1625-0068

AGENCY: Coast Guard, DHS.

ACTION: Sixty-day notice requesting comments.

SUMMARY: In compliance with the Paperwork Reduction Act of 1995, the U.S. Coast Guard intends to submit Information Collection Requests (ICRs) and Analyses to the Office of Management and Budget (OMB) requesting an extension of their approval for the following collections of information: (1) 1625-0067, Claims Under the Oil Pollution Act of 1990 and (2) 1625-0068, State Access to the Oil Spill Liability Trust Fund for Removal Costs Under the Oil Pollution Act of 1990. Before submitting these ICRs to OMB, the Coast Guard is inviting comments as described below.

DATES: Comments must reach the Coast Guard on or before June 10, 2008.

ADDRESSES: To avoid duplicate submissions to the docket [USCG-2008-0222], please use only one of the following means:

(1) Online: http://www.regulations.gov.

(2) Mail: Docket Management Facility (M-30), U.S. Department of Transportation, West Building Ground Floor, Room W12-140, 1200 New Jersey Avenue, SE., Washington, DC 20590-0001.

(3) Hand delivery: To DMF between the hours of 9 a.m. and 5 p.m., Monday through Friday, except Federal holidays. The telephone number is 202-366-9329.

(4) Fax: 202-493-2251.

The DMF maintains the public docket for this notice. Comments and material received from the public, as well as documents mentioned in this notice as being available in the docket, will become part of this docket and will be available for inspection or copying at room W12-140 on the West Building Ground Floor, 1200 New Jersey Avenue, SE., Washington, DC, between 9 a.m. and 5 p.m., Monday through Friday, except Federal holidays. You may also find this docket on the Internet at http://www.regulations.gov.

Copies of the complete ICR is available through this docket on the Internet at http://www.regulations.gov. Additionally, copies are available from Commandant (CG-611), U.S. Coast Guard Headquarters, (Attn: Mr. Arthur Requina), 2100 2nd Street, SW., Washington, DC 20593-0001. The telephone number is 202-475-3523.

FOR FURTHER INFORMATION CONTACT: Mr. Arthur Requina, Office of Information Management, telephone 202-475-3523, or fax 202-475-3929, for questions on these documents. Contact Ms. Renee V. Wright, Program Manager, Docket Operations, 202-366-9826, for questions on the docket.

SUPPLEMENTARY INFORMATION:

Public Participation and Request For Comments

The Coast Guard invites comments on whether this information collection request should be granted based on it being necessary for the proper performance of Departmental functions. In particular, the Coast Guard would appreciate comments addressing: (1) The practical utility of the collections; (2) the accuracy of the estimated burden of the collections; (3) ways to enhance the quality, utility, and clarity of information subject to the collections; and (4) ways to minimize the burden of collections on respondents, including the use of automated collection techniques or other forms of information technology.

We encourage you to respond to this request by submitting comments and related materials. We will post all comments received, without change, to http://www.regulations.gov. They will include any personal information you provide. We have an agreement with DOT to use their DMF. Please see the paragraph on DOT's “Privacy Act Policy” below.

Submitting comments: If you submit a comment, please include the docket number [USCG-2008-0222], indicate the specific section of the document to which each comment applies, providing a reason for each comment. We recommend you include your name, mailing address, an e-mail address, or other contact information in the body of your document so that we can contact you if we have questions regarding your submission. You may submit your comments and material by electronic means, mail, fax, or delivery to the DMF at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: Go to http://www.regulations.gov to view documents mentioned in this notice as being available in the docket. Enter the docket number [USCG-2008-0222] in the Search box, and click, “Go>>.” You may also visit the DMF in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or by visiting http://DocketsInfo.dot.gov.

Information Collection Request

1. Title: Claims Under the Oil Pollution Act of 1990.

OMB Control Number: 1625-0067.

Summary: The Coast Guard will use the information collected under this information collection request to: (1) Determine whether oil-spill-related claims submitted to the Oil Spill Liability Trust Fund under section 1013 of the Oil Pollution Act of 1990 (33 U.S.C. 2713) are compensable and; (2) if they are, to ensure proper compensation for the claimant.

Need: If the respondents do not comply with this reporting requirement in 33 CFR Part 136, they will not be able to document uncompensated removal costs and damages resulting from the discharge, substantial threat of discharge of oil from a vessel or facility into or upon the navigable waters, adjoining shorelines, or the exclusive economic zone. The claimant bears the burden of providing all evidence, information, and documentation deemed necessary by the Director of the National Pollution Funds Center to support the claim.

Respondents: Claimants and responsible parties of oil spills.

Frequency: On occasion.

Burden Estimate: The estimated burden has decreased from 14,800 hours to 8,267 hours per year.

2. Title: State Access to the Oil Spill Liability Trust Fund for Removal Costs Under the Oil Pollution Act of 1990.

OMB Control Number: 1625-0068

Summary: The Coast Guard will use information provided by the State to the Coast Guard National Pollution Funds Center to determine whether those expenditures regarding the Oil Spill Liability Trust Fund are compensable under 33 U.S.C. 2713 and, if they are, to ensure payment of the correct amount of funding from the Fund.

Need: If the respondents do not comply with this reporting requirement in 33 CFR Part 133, they will not be able to document uncompensated removal costs or damages resulting from the discharge, or substantial threat of discharge, of oil from a vessel or facility into or upon the navigable waters, adjoining shorelines, or the exclusive economic zone. Additionally, they will not be able to demonstrate or show that they qualify for claims compensation under the Oil Pollution Act of 1990 (OPA). Currently, the States work with the Federal On-Scene Coordinator and receive compensation through reimbursable agreements.

Respondents: Anyone claiming an OPA damage or removal cost as a result of an OPA incident.

Frequency: On occasion.

Burden Estimate: The estimated burden remains 3 hours per year.

Dated: April 3, 2008.
D. T. Glenn,
Rear Admiral, U.S. Coast Guard, Assistant Commandant for Command, Control, Communications, Computers and Information Technology.

[FR Doc. E8-7674 Filed 4-10-08; 8:45 am]

BILLING CODE 4910-15-P